DEPARTMENT OF HEALTH AND HUMAN SERVICES

Centers for Disease Control and Prevention

The National Institute for Occupational Safety and Health (NIOSH) of the Centers for Disease Control and Prevention (CDC) Announces the Following Meeting

Name: Continue Conceptual Discussions for Escape Respirator Standards Development Efforts Used for Respiratory Protection Against Chemical, Biological, Radiological, and Nuclear (CBRN) Agents, and Provide an Update on the Quality Assurance/Administrative Module.

Date and Time: June 25, 2003; 9 a.m.-5 p.m.

Place: Hilton Garden Inn Pittsburgh/Southpointe, 1000 Corporate Drive, Canonsburg, Pennsylvania.

Status: This meeting is hosted by NIOSH and will be open to the public, limited only by the space available. The meeting room will accommodate approximately 175 people. Interested parties should make hotel reservations directly with the Hilton Garden Inn Pittsburgh/Southpointe (724/743-5000/ 1-800-HILTON) before the cut-off date of June 10, 2003. A group rate of $55 per night has been negotiated for meeting guests. The NIOSH/NPPTL Public Meeting must be referenced to receive this special rate. Interested parties should confirm their attendance to this meeting by completing a registration form and forwarding it by e-mail (confserv@netl.doe.gov) or fax (304-285-4459) to the Event Management Office. A registration form may be obtained from the NIOSH Homepage (www.cdc.gov/niosh) by selecting Conferences and then the event.

An opportunity to make presentations regarding the conceptual discussions of standards and testing processes for escape respirator standards suitable for respiratory protection against CBRN Agents will be given. Requests to make such presentations at the public meeting should be mailed to the NIOSH Docket Officer, Robert A. Taft Laboratories, M/S C34, 4676 Columbia Parkway, Cincinnati, Ohio 45226, Telephone 513-533-8303, Fax 513-533-8285, E-mail niocindocket@cdc.gov. All requests to present on the CBRN topics should contain the name, address, telephone number, relevant business affiliations of the presenter, a brief summary of the presentation, and the approximate time requested for the presentation. Oral presentations should be limited to 15 minutes. Participants will be given the opportunity to comment on the Quality Assurance/Administrative module.

After reviewing the requests for presentations, NIOSH will notify each presenter of the approximate time that their presentation is scheduled to begin. If a participant is not present when their presentation is scheduled to begin, the remaining participants will be heard in order. At the conclusion of the meeting, an attempt will be made to allow presentations by any scheduled participants who missed their assigned times. Attendees who wish to speak but did not submit a request for the opportunity to make a presentation may be given this opportunity at the conclusion of the meeting, at the discretion of the presiding officer.

Comments on the topics presented in this notice and at the meeting should be mailed to the NIOSH Docket Office, Robert A. Taft Laboratories, M/S C34, 4676 Columbia Parkway, Cincinnati, Ohio 45226, Telephone 513-533-8303, Fax 513/533-8285. Comments may also be submitted by e-mail to niocindocket@cdc.gov. E-mail attachments should be formatted as WordPerfect 6/7/8/9 or Microsoft Word. Comments should be submitted to NIOSH no later than July 25, 2003, and should reference docket number, NIOSH-002, in the subject heading if they pertain to the CBRN topics, or reference docket number, NIOSH-001, in the subject heading if they pertain to the Quality Assurance/Administrative Module.

Purpose: NIOSH will continue conceptual discussions of standards and testing processes for escape respirator standards suitable for respiratory protection against CBRN Agents. In addition, an update on the development of the Quality Assurance/ Administrative module will be presented.

NIOSH, along with the U.S. Army Soldier and Biological Chemical Command (SBCCOM) and the National Institute for Standards and Technology (NIST), will present information to attendees concerning the concept development for the Escape Respirator CBRN standard. Participants will be given an opportunity to ask questions on these topics and to present individual comments for consideration. Interested participants may obtain the latest copy of the Escape Respirator CBRN concept paper, as well as earlier versions of the concept papers used during the standard development effort, from the NIOSH contact identified below, or from the NIOSH National Personal Protective Technology Laboratory Web site, address: http://www.cdc.gov/niosh/npptl. The June 15, 2003, concept paper will be used as the basis for discussion at the public meeting, as well as forming the basis for the new Escape Respirator CBRN statement of standard.

Recent acts of terrorism have created an urgent awareness of domestic security and preparedness issues. Municipal, states, and federal responder groups, particularly those in locations considered potential targets, have been developing and modifying response and consequence management plans. Since the World Trade Center and anthrax incidents, most emergency response agencies have operated with a heightened appreciation of the potential scope and sustained resources requirements for coping with such events. The federal Interagency Board for Equipment Standardization and Interoperability (IAB) has worked to identify personal protective equipment that is already available on the market for responders' use. The IAB has identified the development of standards or guidelines for respiratory protection equipment as a top priority. NIOSH, NIST, National Fire Protection Association, and the Occupational Safety and Health Administration have entered into a Memorandum of Understanding defining each agency or organization's role in developing, establishing, and enforcing standards or guidelines for responders' respiratory protective devices. NIST has initiated Interagency Agreements with NIOSH and SBCCOM to aid in the development of appropriate protection standards or guidelines. NIOSH has the lead in developing standards or guidelines to test, evaluate, and approve respirators.

NIOSH, SBCCOM, and NIST have hosted public meetings on April 17 and 18, 2001; June 18 and 19, 2002; October 16 and 17, 2002; and April 29, 2003, presenting their progress in assessing respiratory protection needs of responders to CBRN incidents. The methods or models for developing hazard and exposure estimates, and the status in evaluating test methods and performance standards that may be applicable as future CBRN respirator standards or guidelines were discussed at these meetings.

The Quality Assurance/Administrative update module had been under development prior to the introduction of the CBRN topics and has been previously presented in an open format, the last of which were public meetings held on August 8, 2000, in Washington, DC, and on August 16, 2000, in San Francisco, California. More recent developments have necessitated revisions that will be highlighted at this meeting.

FOR FURTHER INFORMATION CONTACT: Event Management, P.O. Box 880, 3610 Collins Ferry Road, Morgantown, WV 26507, Telephone 304-285-4750, Fax 304-285-4459, E-mail confserv@netl.doe.gov.

The Director, Management Analysis and Services Office, has been delegated the authority to sign Federal Register Notices pertaining to announcements of meetings and other committee management activities, for both CDC and the Agency for Toxic Substances and Disease Registry.

Dated: May 29, 2003.
Alvin Hall,
Director, Management Analysis and Services Office, Centers for Disease Control and Prevention.

[FR Doc. 03-13969 Filed 6-3-03; 8:45 am]

BILLING CODE 4163-19-P